DEPARTMENT OF HEALTH AND HUMAN SERVICES

Centers for Disease Control and Prevention

ADAPT: Adopting and Demonstrating the Adaptation of Prevention Techniques

Announcement Type: Competitive Supplement.

Funding Opportunity Number: PA 04064 (Supplemental).

Catalog of Federal Domestic Assistance Number: 93.944.

Dates: Letter of Intent Deadline: None.

Application Deadline: September 22, 2004.

I. Funding Opportunity Description

Authority: This program is authorized under sections 301 and 317(k) of the Public Health Service Act, (42 U.S.C. 241 and 247b(k)), as amended.

Purpose

The purpose of this program is to improve understanding of the processes needed for adapting evidence-based interventions to fit new conditions or populations and to pilot CDC-developed draft guidance for adaptation.

The ADAPT project responds to concerns from the field that existing interventions do not address the HIV prevention needs of their specific population. This project seeks to develop guidance for agencies to engage in evidence-based adaptation of interventions previously shown to be effective in research settings for use in real world applications. If data from this project is published, it will be published as case studies and not as generalizable research data.

Activities

Supplemental funds are intended to support 3-5 eligible grantees that are currently participating in Community-Based Organizations (CBO) PA 04064. The funds will support additional activities that involve adapting an HIV prevention intervention listed in the Procedural Guidance for Selected Strategies and Interventions for Community-Based Organizations Funded Under Program Announcement 04064 (Procedural Guidance) for use in an HIV seropositive population of men of color who have sex with other men (MSM of color). CDC is especially interested in supporting projects that use the Many Men, Many Voices (MMMV) intervention listed in the Procedural Guidance. Contingent upon the quality of proposals, CDC anticipates that at least one of the applicants funded under the ADAPT supplement will adapt and implement MMMV. However, applicants are not limited to this particular intervention and may propose work using any one of the other interventions listed in the Procedural Guidance. Funded applicants will further evaluate the intervention they select to adapt. Preference will be given to those applicants that have limited or no previous experience with the adaptation and implementation of the intervention they were funded to implement under CBO PA 04064. Funded applicants will be required to conduct two evaluation components for this award: (1) To monitor and evaluate the adaptation process; and (2) to monitor and evaluate the intervention.

In a cooperative agreement, CDC staff is substantially involved in the program activities, above and beyond routine grant monitoring.

CDC Activities for this program are as follows:

• CDC will provide to funded applicants the draft adaptation guidance developed by CDC with input from internal and external researchers, HIV prevention intervention implementers, and community advocates.

• CDC will provide process and outcome indicators and work with funded applicants in the evaluation processes for this award. The evaluation methods could include, but are not limited to: timelines; qualitative summaries; focus group summaries; unstructured key informant interviews; case studies; checklists; progress reports; and perhaps information on costs. Note that evaluation activities will include unstructured interviews with key stakeholders before and after the implementation of the adapted intervention(s). Outcome measures could include, but are not limited to, behavioral outcomes such as condom use or frequency of unprotected sex, or biological outcomes such as sexually transmitted disease (STD) incidence as collected with the Program Evaluation and Monitoring System (PEMS).

II. Award Information

Type of Award: Cooperative Agreement. CDC involvement in this program is listed in the Activities Section above.

Fiscal Year Funds: 2004—2006.

Approximate Total Funding: The estimated total cost is $5,000,000 with approximately $2,000,000 awarded during the first fiscal year.

Approximate Number of Awards: 3-5.

Approximate Average Award: $575,000 (This amount is for the first 12-month budget period, and includes both direct and indirect costs).

Floor of Award Range: $200,000.

Anticipated Award Date: September 1, 2004.

Budget Period Length: 12 months.

Project Period Length: 2 years.

Throughout the project period, CDC's commitment to continuation of awards will be conditioned on the availability of funds, evidence of satisfactory progress by the recipient (as documented in required reports), and the determination that continued funding is in the best interest of the Federal Government.

III. Eligibility Information

III.1. Eligible applicants

Applications may only be submitted by grantees currently funded under CBO PA 04064 who are eligible to apply for supplemental funding.

III.2. Cost Sharing or Matching

Matching funds are not required for this program.

III.3. Other

If your application is incomplete or non-responsive to the requirements listed in this section, it will not be entered into the review process. You will be notified that your application did not meet submission requirements.

Eligibility Criteria:

Eligibility criteria are briefly outlined below. When writing the proposal narrative, applicants should refer to the scoring criteria section for additional details.

a. Only grantees currently funded under CBO PA 04064 are eligible to apply for supplemental funding.

b. The applicant must demonstrate access to an adequate population of HIV seropositive MSM of color who are currently not receiving other prevention interventions. The applicant must demonstrate ability to obtain a sample size comparable to that found in the original research study.

c. The applicant must demonstrate adequate personnel for conducting ADAPT activities in addition to CBO PA 04064 activities. Personnel assigned to ADAPT activities should include, but are not limited to, an onsite, full-time person with expertise in development and adaptation of interventions based on behavioral theory (adaptation specialist) who works collaboratively with the CBO PA 04064 project coordinator to take the lead on ADAPT activities; a full-time data manager; a full-time data entry position; and a part-time administrator.

d. The applicant must demonstrate ability to accomplish ADAPT activities within a 2-year project period.

e. The applicant must adequately address all sections of the description of work in the narrative of the proposal.

(1) Approach. The applicant must demonstrate that plans for adapting, implementing, and monitoring and evaluating the selected intervention are adequately developed, well-integrated, and appropriate to the aims of the project.

(2) Significance. The applicant must demonstrate understanding of the intent and purpose of ADAPT.

(3) Personnel. The applicant must demonstrate adequate personnel for conducting ADAPT activities in addition to CBO PA 04064 activities (i.e., adaptation specialist, data manager, data entry, part-time administrator).

(4) Environment. The applicant should demonstrate how levels of administrative support, community involvement, facilities, and other resources at the CBO in which the work will be done contribute to the probability of success.

Note: Title 2 of the United States Code Section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 25 (not including budget justification and appendices). If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

• MS WORD format.

• Cover page—the program announcement number and title.

• Table of contents—with the major sections and page numbering including each attachment.

• Consecutive page numbering throughout the document, including the attachments.

○ Beginning with the first page of text, number all pages clearly and sequentially, including each page in the appendices.

○ Replace double-sided article reprints with a one-sided copy.

Your narrative should address activities to be conducted over the entire project period, and must include the following items in the order listed below.

A. Specific Aims

Applications must include a one-page, double-spaced executive summary as a cover page.

• Maximum number of pages: 1.

• Font size: 12-point unreduced.

• Double spaced.

• Paper size: 8.5 by 11 inches.

• Page margin size: One inch.

• Printed only on one side of page.

• Written in plain language, avoid jargon.

A complete table of contents to the application and its appendices, and text addressing each required element is required.

B. Background and Significance

• An explanation of how the applicant identified, gained access to, and assessed the prevention needs of the selected target population.

• The rationale for selection of proposed target population and intervention match.

C. Preliminary Studies/Progress Report

• Provide evidence of the applicant's previous experience in conducting process evaluation, quality assurance, and evaluation.

• An outline of personnel roles and responsibilities related to conducting ADAPT project activities.

The remaining sections of the proposal narrative should correspond with sections of the scoring criteria. The applicant must adequately address all relevant items in each section of the scoring criteria.

D. Approach

The applicant must demonstrate that plans for adapting, implementing, and monitoring and evaluating the selected intervention are adequately developed, well-integrated, and appropriate to the aims of the project.

The applicant must submit a copy of their CBO PA 04064 application packet and award letter.

E. Significance

The applicant must demonstrate understanding of the intent and purpose of ADAPT.

F. Personnel

The applicant must demonstrate adequate personnel for conducting ADAPT activities in addition to CBO PA 04064 activities (i.e., adaptation specialist, data manager, data entry, part-time administrator).

G. Environment

The applicant should demonstrate how levels of administrative support, community involvement, facilities, and other resources at the CBO in which the work will be done contribute to the probability of success.

H. Budget and Justification (Not Included in Page Limit)

I. Additional Information

Additional information may be included in the application appendices. The appendices will not be counted toward the narrative page limit. This additional information includes: Curriculum Vitae, Resumes, Organizational Charts, and Letters of Support. Applications must include Letters of Support (LOS) from institutions that will play a role in conducting ADAPT activities. Each LOS should include a description of the past relationship with the applicant and the role(s) the local partner will play in conducting ADAPT activities (e.g., accessing the target population, implementing the selected intervention, staff involved). The LOS must be written in the following format:

• Maximum number of pages: 1.

• Font size: 12-point unreduced.

• Double spaced.

• Paper size: 8.5 by 11 inches.

• Page margin size: One inch.

• Printed only on one side of page.

• Written in plain language, avoid jargon.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: September 22, 2004.

Explanation of Deadline: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carrier's guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• No furniture should be purchased with ADAPT funds.

• No rent should be paid for with ADAPT funds unless the amount is prorated to cover space occupied solely by ADAPT staff.

• Travel costs must conform to government rates.

• No construction should be paid for with ADAPT funds.

• Awards will not allow reimbursement of pre-award costs.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

Application Submission Address: Submit the original and two hard copies of your application by mail or express delivery service to: Technical Information Management-PA #04064, CDC Procurement and Grants Office,2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

The reviewers will consider each of the following criteria in assigning the overall score, weighting them as appropriate for each proposal. Your application will be evaluated against the scoring criteria as follows:

A. Approach (35 percent)

• Has applicant included a brief abstract summarizing their ADAPT project proposal?

• Has the applicant submitted a copy of their CBO PA 04064 application packet and award letter?

• Are the plans for adapting, implementing, and monitoring and evaluating the selected intervention adequately developed, well-integrated, and appropriate to the aims of the project?

• Has the applicant provided strong evidence of experience with process evaluation, quality assurance, and evaluation with other related projects?

• Has the applicant provided a quality assurance plan (QASP) that addresses all phases of adaptation, implementation, and monitoring and evaluation and includes proposed process and outcome measures and personnel responsible for ensuring quality?

• Has the applicant included a timeline including dates that tasks are to be implemented and completed; costs; development of materials (e.g., adapted training curriculum, evaluation tools, and checklists); and quarterly progress report dates?

• Does the applicant acknowledge potential problem areas and consider alternative tactics (i.e., recruitment, competing priorities, staffing, and coordinating ADAPT & CBO PA 04064 activities and PEMS)?

• Has the applicant included how they identified, gained access to, and rapidly assessed the target population (e.g., via community planning groups [CPGs], community advisory boards [CABs], and focus groups)?

• Has the applicant demonstrated access to an adequate population of HIV seropositive MSM of color who are currently not receiving other prevention interventions? Can applicant obtain a sample size comparable to that found in the original research study of the chosen intervention?

• Is the target population of HIV seropositive MSM of color population not targeted by the original intervention?

• Has the applicant provided a plan for training staff on the implementation of the adapted intervention?

• Has the applicant provided a plan and protocol for timely adaptation, implementation, and evaluation of the intervention?

• Does the applicant's proposed budget for ADAPT activities include, but is not limited to, personnel (i.e., adaptation specialist, data manager, data entry, part-time administrator), travel (2 trips to Atlanta for the adaptation specialist), and supplies?

B. Significance (30 Percent)

• Does the applicant demonstrate understanding of the intent and purpose of ADAPT?

• Is the target population HIV seropositive MSM of color?

• Is the selection of the target population justified in terms of risk, service level, and HIV incidence?

• Did the applicant provide the rationale for appropriateness of agency, target population, and intervention match?

• Are the agency, target population, and intervention realistically matched in terms of agency resources and experience, behavioral determinants, and risk behaviors of the target population, and maintaining fidelity to the core elements of the intervention?

• Did the applicant document adequate capacity to implement the chosen intervention?

C. Personnel (20 Percent)

• Has the applicant demonstrated adequate personnel for conducting ADAPT activities in addition to CBO PA 04064 activities (i.e., adaptation specialist, data manager, data entry, part-time administrator)?

• Does the applicant demonstrate adequate capacity and skills necessary to identify at-risk populations, use local data, and collaborate with partners (if applicable)?

• Is the applicant staff appropriately trained and well suited to carry out this work?

• Is the work proposed appropriate to the experience level of the applicant staff?

• Does the applicant demonstrate previous experience in managing HIV prevention efforts?

D. Environment (15 percent)

• Are the levels of administrative support, community involvement, facilities, and other resources at the CBO in which the work will be done sufficient to contribute to a high probability of success?

• Has the applicant demonstrated how they established and maintain collaboration with local partners, if relevant (e.g., local health departments, universities, CBOs, ASOs, and research entities)?

• Has the applicant demonstrated adequate support for ADAPT activities (e.g., commitment of resources such as personnel and time; commitment from management; commitment from community partners).

• Has the applicant provided a plan for separate budgeting of ADAPT and CBO PA 04064 funds?

V.2. Review and Selection Process

Applications will be reviewed for completeness by the Procurement and Grants Office (PGO) staff, and for responsiveness by National Center for HIV/AIDS, STD, TB Prevention. Incomplete applications and applications that are non-responsive to the eligibility criteria will not advance through the review process. Applicants will be notified that their application did not meet submission requirements.

An objective review panel will evaluate complete and responsive applications according to the criteria listed in the “V.1. Criteria” section above.

In addition, the following factors may affect the funding decision:

Executive Summary

Letters of Support

Selected Intervention. CDC is especially interested in supporting projects that use the MMMV intervention listed in the Procedural Guidance. Contingent upon the quality of proposals, CDC anticipates that at least one of the applicants funded under the ADAPT supplement will adapt and implement MMMV. However, applicants are not limited to this particular intervention and may propose work using any one of the other interventions listed in the Procedural Guidance.

V.3. Anticipated Announcement and Award Dates

Award date: September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-7 Executive Order 12372

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

Additional information on these requirements can be found on the CDC web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report no more than 90 days after the end of the budget period.

3. Final financial and performance reports, no more than 90 days after the end of the project period.

These reports must be mailed to the Grants Management or Contract Specialist listed in the “Agency Contacts” section of this announcement.

VII. Agency Contacts

For general questions about this announcement, contact:

Technical Information Management Section, CDC Procurement and Grants Office, 2920 Brandywine Road, Atlanta, GA 30341, Telephone: 770-488-2700.

For program technical assistance, contact:

Vel McKleroy, Extramural Co-Project Officer, Centers for Disease Control and Prevention, 1600 Clifton Road, Mailstop E-37, Atlanta Georgia, 30333, Telephone: (404) 639-2982, E-mail: vmckleroy@cdc.gov.

OR

Jennifer Galbraith, Extramural Co-Project Officer, Centers for Disease Control and Prevention, 1600 Clifton Road, Mailstop E-37, Atlanta Georgia, 30333, Telephone: (404) 639-8649, E-mail: jgalbraith@cdc.gov.

For financial, grants management, or budget assistance, contact:

Brenda Hayes, Grants Management Specialist, CDC Procurement and Grants Office, 2920 Brandywine Road, Atlanta, GA 30341, Telephone: 770-488-2741, E-mail: bkh4@cdc.gov.

Dated: August 17, 2004.
William P. Nichols,
Acting Director, Procurement and Grants Office, Centers for Disease Control and Prevention.

[FR Doc. 04-19225 Filed 8-20-04; 8:45 am]

BILLING CODE 4163-70-P